DEPARTMENT OF THE INTERIOR

National Park Service

Notice of Inventory Completion: University of Wisconsin-Stevens Point, Stevens Point, WI

AGENCY: National Park Service, Interior.

ACTION: Notice.

Notice is here given in accordance with the Native American Graves Protection and Repatriation Act (NAGPRA), 25 U.S.C. 3003, of the completion of an inventory of human remains and associated funerary objects in the possession of the University of Wisconsin-Stevens Point, Stevens Point, WI. The human remains and associated funerary objects were removed from Portage County, WI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by University of Wisconsin-Stevens Point professional staff in consultation with representatives of the Ho-Chunk Nation of Wisconsin and Menominee Indian Tribe of Wisconsin.

In the late 1950s, human remains were removed from the Bigelow-Hamilton site (47-Pr-29), Portage County, WI, by George Dixon. Mr. Dixon subsequently donated the human remains and associated funerary objects to the University of Wisconsin-Stevens Point. No known individuals were identified. Most of the human remains and associated funerary objects were reinterred in 1986 and 1987 at the request of the Wisconsin Winnebago Tribe, now called the Ho-Chunk Nation of Wisconsin. In 1994, 1995, and 2001, additional human remains representing a minimum of two individuals and associated funerary objects from the Bigelow-Hamilton site were discovered in the University of Wisconsin-Stevens Point collections. The 71 associated funerary objects are 1 fragment of mink or otter fur, 2 textile fragments, 9 shell fragments, 6 stone tools, 48 stone flakes, 3 Madison Plain sherds, and 2 cord-impressed sherds.

The Bigelow-Hamilton site consists of mounds, several large village areas, and a possible storage precinct. Archival research, literature review, and artifact analysis indicate sequential occupations of the site from 400 to 200 B.C., A.D. 0 to 200, A.D. 200 to 400, A.D. 500 to 1200, and during the 19th century. The human remains are believed to be associated with a Menominee sugar camp at the site that was used between A.D. 1839 and 1840. The Bigelow-Hamilton site is located with the area ceded by the Menominee to the United States under the Treaty of September 3, 1836 (7 Stat. 506). Other historic records indicate that the ancestors of the Ho-Chunk Nation of Wisconsin and Menominee Indian Tribe of Wisconsin occupied the Portage County area during the 1830s and 1840s. The Ho-Chunk Nation of Wisconsin and Menominee Indian Tribe of Wisconsin have agreed that the Ho-Chunk Nation of Wisconsin will assume repatriation for the human remains and associated funerary objects from the area of the Bigelow-Hamilton site.

Officials of the University of Wisconsin-Stevens Point have determined that, pursuant to 25 U.S.C. 3001 (9-10), the human remains described above represent the physical remains of two individuals of Native American ancestry. Officials of the University of Wisconsin-Stevens Point also have determined that, pursuant to 25 U.S.C. 3001 (3)(A), the 71 objects described above are reasonably believed to have been placed with or near individual human remains at the time of death or later as part of the death rite or ceremony. Lastly, officials of the University of Wisconsin-Stevens Point have determined that, pursuant to 25 U.S.C. 3001 (2), there is a relationship of shared group identity that can be reasonably traced between the Native American human remains and associated funerary objects and the Ho-Chunk Nation of Wisconsin and/or Menominee Tribe of Indians of Wisconsin.

Representatives of any other Indian tribe that believes itself to be culturally affiliated with the human remains should contact Sharon Cloud, University of Wisconsin-Stevens Point, Stevens Point, WI 54481-3897, telephone (715) 346-3576, before April 30, 2008. Pursuant to 25 U.S.C. 3009 (2), the human remains and associated funerary objects were repatriated to the Ho-Chunk Nation of Wisconsin in 2003 to complete the repatriation that was pending at the time of NAGPRA's enactment.

The University of Wisconsin-Stevens Point is responsible for notifying the Ho-Chunk Nation of Wisconsin and Menominee Indian Tribe of Wisconsin that this notice has been published.

Dated: March 15, 2008.
Sherry Hutt,
Manager, National NAGPRA Program.

[FR Doc. E8-6575 Filed 3-28-08; 8:45 am]

BILLING CODE 4312-50-S